DEPARTMENT OF THE INTERIOR

Bureau of Land Management

[MT-912-0777-XP]

Notice of Public Meetings; Western, Central, Eastern Montana, and Dakotas Resource Advisory Council Meetings; Montana

AGENCY: Bureau of Land Management, Interior.

ACTION: Notice.

SUMMARY: In accordance with the Federal Land Policy and Management Act (FLPMA) and the Federal Advisory Committee Act of 1972 (FACA), the U.S. Department of the Interior, Bureau of Land Management (BLM), the Western, Central, and Eastern Montana, and the Dakotas Resource Advisory Councils will meet as indicated below.

DATES: The Western Montana RAC meeting will be held September 10, 2003, at the Search and Rescue Building in Dillon, Montana, beginning at 10 a.m. The public comment period on Sustaining Working Landscapes (SWL) and other topics will begin at 1 p.m. and the meeting is expected to adjourn by 3 p.m. Also on the agenda will be information about the Montana/Dakotas Off-Highway Vehicle policy.

The Central Montana RAC will meet September 23-25, 2003, at the Agricultural Museum in Fort Benton, Montana. The RAC members will tour the Missouri River on September 23. The meeting will convene at 8 a.m. on September 24. Public comment periods on SWL and other topics are scheduled for that day from 12-12:30 p.m. and 4-5 p.m. Another public comment session is scheduled for 8 a.m.-8:30 a.m. on September 25. The meeting should adjourn at 12:45 p.m. on September 25. Also on the agenda will be information about the Montana/Dakotas Off-Highway Vehicle policy and the Blackleaf EIS.

The Eastern Montana RAC will meet August 14, 2003, at 8 a.m. in Billings, Montana, at the Hampton Inn. The public comment period on SWL and other topics will begin at 2 p.m., and the meeting will adjourn at about 3:30 p.m. Also on the agenda will be information about the Montana/Dakotas Off-Highway Vehicle policy.

The Dakotas RAC will meet September 3, 2003, at 2 p.m. at the Golden Hills Resort Best Western, in Lead, South Dakota, to tour Grizzly Gulch fire rehabilitation and monitoring. The meeting will resume at 8 a.m. on September 4, 2003, at the Golden Hills Resort Best Western. Sustaining Working Landscapes and other topics, including the Montana/Dakotas Off-Highway Vehicle policy, will be discussed with public comment taken on those and other issues beginning at 2 p.m.

SUPPLEMENTARY INFORMATION: The 15-member Councils advise the Secretary of the Interior, through the Bureau of Land Management, on a variety of planning and management issues associated with public land management in Montana and the Dakotas. At these four meetings, the Councils will accept public comment on the SWL initiative and possibly develop recommendations on the same for the consideration of the Montana/Dakotas State Director.

All meetings are open to the public. The public may present written comments to the Council. Each formal Council meeting will also have time allocated for hearing public comments. Depending on the number of persons wishing to comment and time available, the time for individual oral comments may be limited. Individuals who plan to attend and need special assistance, such as sign language interpretation, or other reasonable accommodations, should contact the BLM as provided below.

FOR FURTHER INFORMATION CONTACT: For the Western Montana RAC, contact Marilyn Krause, Resource Advisory Council Coordinator, at the Butte Field Office, 106 North Parkmont, Butte, MT 59701, telephone 406-533-7617, or Tim Bozorth, Field Manager, at the Dillon Field Office, 1005 Selway Drive, Dillon, MT 59725, telephone 406-683-2337.

For the Central Montana RAC, contact David L. Mari, Lewistown Field Manager, at the Lewistown Field Office, P.O. Box 1160, Airport Road, Lewistown, MT 59457, 406-538-7461.

For the Eastern Montana RAC, contact Mark Jacobsen, Resource Advisory Council Coordinator, at the Miles City Field Office, 111 Garryowen Road, Miles City, MT 59301, 406-233-2831.

For the Dakotas RAC, contact Doug Burger, North Dakota Field Manager, at the North Dakota Field Office, 2933 Third Avenue West, Dickinson, ND 58601, 701-227-7700.

Dated: July 17, 2003.
A. Jerry Meredith,
Associate State Director, Montana State Office.

[FR Doc. 03-18956 Filed 7-24-03; 8:45 am]

BILLING CODE 4310-$$-P